DEPARTMENT OF COMMERCE

National Oceanic and Atmospheric Administration

RIN 0648-XD213

Marine Mammals; File No. 18694

AGENCY: National Marine Fisheries Service (NMFS), National Oceanic and Atmospheric Administration (NOAA), Commerce.

ACTION: Notice; receipt of application.

SUMMARY: Notice is hereby given that Mervi Kunnasranta, Ph.D., University of Eastern Finland, University of Eastern Finland, P.O. Box 111, 80101 Joensuu Finland, has applied in due form for a permit to conduct commercial/educational photography on harbor seals (Phoca vitulina).

DATES: Written, telefaxed, or email comments must be received on or before May 5, 2014.

ADDRESSES: The application and related documents are available for review upon written request or by appointment in the following offices:

Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Sloan, (301) 427-8401.

SUPPLEMENTARY INFORMATION: The subject permit is requested under the authority of the Marine Mammal Protection Act of 1972, as amended (MMPA; 16 U.S.C. 1361 et seq.) and the regulations governing the taking and importing of marine mammals (50 CFR part 216). Section 104(c)(6) provides for photography for educational or commercial purposes involving non-endangered and non-threatened marine mammals in the wild.

Dr. Kunnasranta requests a three-year photography permit to film the freshwater harbor seal population at Lake Iliamna, Alaska. Filmmakers plan to obtain footage using digital and full high definition video and still cameras with telephoto lenses from several platforms: single or twin engine survey aircrafts, small vessels, or from shore. Additional footage may be obtained from static, digital cameras placed onshore and anchored underwater. Filming would take place for approximately one week between spring and fall annually, most likely during the seals' molt period in summer, after pupping; up to 280 seals may be approached and filmed annually. Obtained footage will be part of an international documentary film presenting the world's other freshwater seal species, to be published in Europe.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 31, 2014.
Tammy C. Adams,
Acting Chief, Permits and Conservation Division, Office of Protected Resources, National Marine Fisheries Service.

[FR Doc. 2014-07466 Filed 4-2-14; 8:45 am]

BILLING CODE 3510-22-P